DEPARTMENT OF TRANSPORTATION

Surface Transportation Board

[STB Docket No. AB-490X]

Greenville County Economic Development Corporation—Discontinuance of Service Exemption—in Greenville County, SC

The Greenville County Economic Development Corporation (GCEDC) has filed a verified notice of exemption under 49 CFR part 1152, Subpart F-Exempt Abandonments and Discontinuances of Service to discontinue service over 11.8 miles of railroad, known as the Greenville and Northern Railroad Line, extending from milepost 0.0, in Greenville, to milepost 11.8, at the northern limits of Traveler's Rest, in Greenville County, SC (line).¹ The line traverses United States Postal Service Zip Codes 29601, 29609, 29611, 29613, 29617, and 29690.

¹ South Carolina Central Railroad Company, Inc., d/b/a Carolina Piedmont Division was authorized to abandon the portion of the line between milepost 0.0 and milepost 2.0, in South Carolina Central Railroad Company, Inc., d/b/a Carolina Piedmont Division—Abandonment Exemption—in Greenville County, SC, STB Docket No. AB-312 (Sub-No. 2X) (STB served Apr. 1, 1998); however, it appears that the abandonment was never consummated.

GCEDC has certified that: (1) No local traffic has moved over the line for at least 2 years; (2) there is no overhead traffic on the line; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.²

² As discussed below, GCEDC has complied with or is exempt from these requirements.

As a condition to this exemption, any employee adversely affected by the discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on August 17, 2003,³ unless stayed pending reconsideration. Petitions to stay that do not involve environmental issues and formal expressions of intent to file an OFA for continued rail service under 49 CFR 1152.27(c)(2),⁴ must be filed by July 28, 2003.⁵ Petitions to reopen must be filed by August 7, 2003, with: Surface Transportation Board, 1925 K Street, NW., Washington, DC 20423-0001.

³ Under 49 CFR 1152.50(d)(3), the earliest the exemption could become effective is 50 days after the verified notice of exemption was filed. In this case, notice was filed on June 30, 2003, and GCEDC proposed consummating the discontinuance of service on or about July 14, 2003. In a letter filed on July 8, 2003, Counsel for GCEDC acknowledged that the discontinuance of service could not be consummated until 50 days after the filing of the verified notice, or on August 17, 2003.

⁴ Each OFA must be accompanied by the filing fee, which currently is set at $1,100. See 49 CFR 1002.2(f)(25).

⁵ Because this is a discontinuance of service proceeding and not an abandonment, trail use/rail banking and public use conditions are not appropriate. Additionally, this proceeding is exempt from environmental and historic reporting requirements. GCEDC only intends to discontinue service over the line and to facilitate possible future operations in the event it is successful in securing funds to repair the line. Because GCEDC's discontinuance of service will merely result in the cessation of service over the line, this proceeding is exempt from the reporting requirements listed above and no environmental documentation will be prepared. See 49 CFR 1105.6(c)(2) and 1105.8(a) and (b).

A copy of any petition filed with the Board should be sent to GCEDC's representative: Phyllis Henderson, President, Greenville County Economic Development Corporation, 301 University Ridge, Suite 2400, Greenville, SC 29601.

If the verified notice contains false or misleading information, the exemption is void ab initio.

Board decisions and notices are available on our Web site at www.stb.dot.gov.

Decided: July 14, 2003.
By the Board, David M. Konschnik, Director, Office of Proceedings.
Vernon A. Williams,
Secretary.

[FR Doc. 03-18332 Filed 7-17-03; 8:45 am]

BILLING CODE 4915-00-P